DEPARTMENT OF STATE

[Public Notice: 11662]

Determination and Certification of the Foreign Assistance Act Relating to the Largest Exporting and Importing Countries of Certain Precursor Chemicals

Pursuant to Section 490(b)(1)(A) of the Foreign Assistance Act of 1961, as amended, I hereby determine and certify the top five exporting and importing countries and economies of pseudoephedrine and ephedrine (Canada, Germany, India, Indonesia, Japan, People's Republic of China, Republic of Korea, Singapore, Switzerland, Turkey, and the United Kingdom) have cooperated fully with the United States, or have taken adequate steps on their own, to achieve full compliance with the goals and objectives established by the 1988 UN Convention Against Illicit Traffic in Narcotic Drugs and Psychotropic Substances.

This determination and certification shall be published in the Federal Register, and copies shall be provided to Congress together with the companying Memorandum of Justification.

Dated: January 28, 2022.
Wendy R. Sherman,
Deputy Secretary of State.

[FR Doc. 2022-03743 Filed 2-18-22; 8:45 am]

BILLING CODE 4710-17-P